OFFICE OF MANAGEMENT AND BUDGET

Information Collection Activities: Submission for the Office of Management and Budget (OMB) Review; Comment Request

AGENCY: Office of Management and Budget.

ACTION: Notice of the OMB review of information collection and solicitation of public comment.

SUMMARY: The Office of Management and Budget (OMB) has recently submitted to OMB for review the following three proposals for collection of information under the provisions of the Paperwork Reduction Act (44 U.S.C. 3501 et. seq).

OMB Control No.: 0348-0004.

Title: Request for Advance or Reimbursement.

Form No.: SF-270.

Type of Review: Extension of a currently approved collection.

Respondents: States, Local Governments, Universities, Non-Profit Organizations.

Number of Responses: 100,000.

Estimated Time Per Response: 60 minutes.

Needs and Uses: The SF-270 is used to request funds for all nonconstruction grant programs when letters of credit or predetermined advance payment methods are not used. The Federal awarding agencies use information reported on this form for the award and general management of Federal assistance program awards.

OMB Control No.: 0348-0002.

Title: Outlay and Request for Reimbursement for Construction Programs.

Form No.: SF-271.

Type of Review: Extension of a currently approved collection.

Respondents: States, Local Governments, Universities, Non-Profit Organizations.

Number of Responses: 40,000.

Estimated Time Per Response: 60 minutes.

Needs and Uses: The SF-271 is used to request reimbursement for all construction grant programs. The Federal awarding agencies use information reported on this form for the award and general management of Federal assistance program awards.

OMB Control No.: 0348-0046.

Title: Disclosure of Lobbying Activities.

Form No.: SF-LLL.

Type of Review: Extension of a currently approved collection.

Respondents: Contractors, States, Local Governments, Universities, Non-Profit Organizations, For-Profit Organizations, Individuals.

Number of Responses: 600.

Estimated Time Per Response: 10 minutes.

Needs and Uses: The SF-LLL is the standard disclosure form for lobbying paid for with non-Federal funds, as required by the Byrd Amendment and amended by the Lobbying Disclosure Act of 1995. The Federal awarding agencies use information reported on this form for the award and general management of Federal contracts and assistance program awards.

Abstract: On May 24, 2006, the Office of Management and Budget (OMB) published a Notice in the Federal Register [71 FR 29991] seeking comments on the renewal without change of three standard forms, the SF-270, Request for Advance or Reimbursement; the SF-271, Outlay Report and Request for Reimbursement for Construction Programs; and the SF-LLL, Disclosure of Lobbying Activities. These forms are required by OMB Circular A-102, “Grants and Cooperative Agreements with State and Local Governments,” and by OMB guidance at 2 CFR part 215, “Uniform Administrative Requirements for Grants and Agreements with Institutions of Higher Education, Hospitals, and Other Non Profit Organizations.” One comment was received, requesting a change to the instructions for completion of the SF-LLL, clarifying the reporting requirement. OMB has not received information from the procurement or the grants communities regarding confusion over the requirement to report on non-Federal funds used to engage lobbyists to influence a Federal award, therefore we have not changed the instructions.

Copies of these standard forms can be downloaded from the OMB Grants Management home page (http://www.whitehouse.gov/omb/grants).

Comments and questions should be directed to the OMB Desk Officer by September 8, 2006. Comments received after this date will be considered if it is practical to do so, but assurance of consideration cannot be given to comments received after this date.

Office of Management and Budget
Gil Tran,
Acting Chief, Financial Standards and Grants Branch.

[FR Doc. E6-12967 Filed 8-8-06; 8:45 am]

BILLING CODE 3110-01-P